NUCLEAR REGULATORY COMMISSION

Advisory Committee on Reactor Safeguards (ACRS); Subcommittee Meeting on Power Uprates (Hope Creek); Revised; Notice of Meeting

The Federal Register Notice for the ACRS Subcommittee Meeting on Power Uprates scheduled to be held on March 20-21, 2008 has been revised to correct an inadvertent error (PPL Hope Creek LLC has been changed to PSEG Nuclear LLC) as noted below.

The meeting will be open to public attendance, with the exception of portions that may be closed to discuss proprietary information pursuant to 5 U.S.C. 552b(c)4 for presentations covering information that is proprietary to PSEG Nuclear LLC or its contractors such as General Electric and Continuum Dynamics. All other items pertaining to this meeting remain the same as published previously in the Federal Register on Friday, March 7, 2008 (73 FR 12474).

FOR FURTHER INFORMATION CONTACT: Ms. Zena Abdullahi, Designated Federal Official (Telephone: 301-415-8716) between 7:30 a.m. and 4:15 p.m. (ET) or by e-mail zxa@nrc.gov.

Dated: March 14, 2008.
Cayetano Santos,
Chief, Reactor Safety Branch, ACRS.

[FR Doc. E8-5894 Filed 3-21-08; 8:45 am]

BILLING CODE 7590-01-P